DEPARTMENT OF DEFENSE

Department of the Air Force

Air University Board of Visitors Meeting

ACTION: Amended Notice of Meeting of the Air University Board of Visitors.

SUMMARY: Under the provisions of the Federal Advisory Committee Act of 1972, the Government in the Sunshine Act of 1976 and the Code of Federal Regulations, the Department of Defense announces a meeting of the Air University Board of Visitors.

DATES: The meeting will take place on Monday, 8 April 2019, from 8:00 a.m. to approximately 4:30 p.m. and Tuesday, 9 November, 2019, from 8:00 a.m. to approximately 4:30 p.m. Central Standard Time.

ADDRESSES: The meeting will be held in the Air University Commander's Conference Room located in Building 800 at Maxwell Air Force Base, AL.

FOR FURTHER INFORMATION CONTACT: Dr. Yolanda Williams, Designated Federal Officer, Air University Headquarters, 55 LeMay Plaza South, Maxwell Air Force Base, Alabama 36112- 6335, telephone (334) 462-1002.

SUPPLEMENTARY INFORMATION: The purpose of this meeting is to provide independent advice and recommendations on matters pertaining to the educational, doctrinal, and research policies and activities of Air University.

The agenda will include topics relating to the policies, programs, and initiatives of Air University educational programs and will include an out brief from the Air Force Institute of Technology and Community College of the Air Force Subcommittees.

Pursuant to 5 U.S.C. 552b, as amended, and 41 CFR 102-3.155 all sessions of the Air University Board of Visitors' meetings' will be open to the public. Any member of the public wishing to provide input to the Air University Board of Visitors' should submit a written statement in accordance with 41 CFR 102-3.140(c) and section 10(a)(3) of the Federal Advisory Committee Act and the procedures described in this paragraph. Written statements can be submitted to the Designated Federal Officer at the address detailed below at any time.

Statements being submitted in response to the agenda mentioned in this notice must be received by the Designated Federal Officer at the address listed below at least ten calendar days prior to the meeting, which is the subject of this notice. Written statements received after this date may not be provided to or considered by the Air University Board of Visitors until its next meeting. The Designated Federal Officer will review all timely submissions with the Air University Board of Visitors' Board Chairperson and ensure they are provided to members of the Board before the meeting that is the subject of this notice. Any member of the public wishing to attend this meeting should contact the Designated Federal Officer listed below at least ten calendar days prior to the meeting for information on base entry procedures.

Due to unforeseen circumstances, the Air University Board of Visitors was unable to provide public notification required by 41 CFR 102-3.150(a) concerning its April 8 thru 9, 2019 meeting of the Air University Board of Visitors, as announced in Vol. 84, FR 11529, or a waiver to the 15-calendar day notification requirement. Accordingly, the Advisory Committee Management Officer for the Department of Defense, pursuant to 41 CFR 102-3.150(b), waives the 15-calendar day notification requirement for the meeting in question along with the amended meeting notice that addresses this oversight.

Board of Visitors (BOV) Meeting Agenda (Draft) Maxwell AFB

Purpose of Meeting: For the AU BOV to provide sound professional counsel that will inform decision-making in areas of education, scholarship and leadership.

Read-Aheads via link to AU BOV website:

1. Bylaws & Self-evaluation Drafts

2. SACS Report

3. AU Next Model

4. AU Strategic Plan

5. AU Annual Report

6. AU Omnibus

7. Commander's Guidance Memo

Travel: 7 April 2019

Arrivals at Montgomery Regional Airport (MGM); travel to hotel via taxi/rental car

Hotel Location (Maxwell Protocol Office will handle hotel arrangements/reservations): University Inn @Maxwell AFB, 450 Lemay Plaza Montgomery, AL 36112

Day 1: 8 April 2019

Attire: Long Sleeve Blues and Business Casual for all events

Meeting Location: AU Conference Room, BLDG 800, Commander's Conference Room

7:00 a.m. Depart for AU Headquarters (via surrey)

• Breakfast (TBD—Protocol will arrange)

8:00 a.m. Call to Order—Welcome—Chair (Bonner?)

8:05 a.m. Designated Federal Officer—Dr. Yolanda Williams

8:10 a.m. Opening Remarks—Lt Gen Anthony Cotton, Commander and President

• AU Next Initiative

• AFIT Taskforce

• Undergraduate Education and CCAF Task Force

8:40 a.m. AFIT Subcommittee Minutes—Chair Dr. Cross

9:00 a.m. BOV Administrative Matters—Drs. Chris Cain &Yolanda Williams

• Nominations Status

• Bylaws Update

• Self-Evaluation Update

• Meeting Schedule Update

9:30 a.m. Academic Affairs Report—Dr. Chris Cain

• Accreditation Update (SACS & HLC)

• Omnibus Overview

• Education Program Review

10:00 a.m. Break

10:15 p.m. FY18 Financial Review and FY19 Financial Status—Mr. Douglas

10:45 a.m. Eaker Center Undergraduate Programs Presentation—TBD

• Leadership Development Program

• Civilian Associate degree

11:15 a.m. Community College of the Air Force Programs Presentation—TBD

• Undergraduate (AAS) degrees

12:00 p.m. Lunch with AU Faculty Senate @AU Conference Room

1:15 p.m. Depart for AWC (via surrey)

• BOV meet w/students and faculty (Grand Strategy Seminar)

4:00 p.m. Day 1 Wrap up and Closing Remarks

6:00 p.m. Dinner at Currie House—Gen Cotton and Mrs Cotton

7:30 p.m. Adjourned For the Day

Day 2: 9 April 2019

Attire: Long Sleeve Blues and Business Casual for all events

Meeting Location: Barnes Center—AFCDA Conference Room (TBD)

7:00 a.m. Depart for Barnes Center (via surrey)

• Breakfast (TBD—Protocol will arrange)

8:00 a.m. Day 2 Kickoff Undergraduate Education Transformation Initiative—Chair

Note: To complement AU's strategic planning process the BOV shall provide external perspectives of enlisted undergraduate education programs and services.

8:15 a.m. Question #1: What does the Community College of the Air Force need to look like in the next 2, 5 and 10 years? (Consider emerging demands)

10:30 a.m. Break and Group Photo

12:00 a.m. Working Lunch, Continued Group Discussions and Report Development

1:00 p.m. Question #2: While understanding the significance of enlisted/undergraduate education in the past, how might the Community College of the Air Force evolve in response to the Air Force needs?

2:45 p.m. BREAK

3:00 p.m. Formulate Recommendations

4:00 p.m. Executive Session and Out-brief—TBD

4:30 p.m. Day 2 Wrap up and Closing Remarks

Carlinda N. Lotson,
Air Force Federal Register Liaison Officer.

[FR Doc. 2019-06403 Filed 4-2-19; 8:45 am]

BILLING CODE 5001-10-P